DEPARTMENT OF ENERGY

Federal Energy Regulatory Commission

[Project No. 2778-077]

Idaho Power Company; Notice of Application for Amendment of License and Soliciting Comments, Motions To Intervene, and Protests

Take notice that the following hydroelectric application has been filed with the Commission and is available for public inspection:

a. Application Type: Amendment of license to reduce approved capacity upgrade.

b. Project Number: 2778-077.

c. Date Filed: April 14, 2017.

d. Applicant: Idaho Power Company (licensee).

e. Name of Project: Shoshone Falls Hydroelectric Project.

f. Location: The project is located on the Snake River in Jerome and Twin Falls Counties, Idaho. Part of the project occupies lands owned by the Bureau of Land Management.

g. Filed Pursuant to: Federal Power Act, 16 U.S.C. 791(a)-825(r).

h. Applicant Contact: L. Lewis Wardle, FERC Lands and Licensing Coordinator, Idaho Power Company, P.O. Box 70, 1221 W Idaho St., Boise, Idaho 83702; telephone (208) 388-2964; email address: LWardle@idahopower.com. Also, Jerrod Vaughn, Idaho Power Company, P.O. Box 70, 1221 W Idaho St., Boise, Idaho 83702; telephone (208) 388-2362: email address: JVaughn@idahopower.com.

i. FERC Contact: Kurt Powers; telephone (202) 502-8949; email address: kurt.powers@ferc.gov.

j. Deadline for filing comments, motions to intervene and protests is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2778-077. Comments emailed to Commission staff are not considered part of the Commission record.

k. Description of Filing: Idaho Power Company (IPC) requests amendment of the Commission's July 1, 2010 Order that authorized IPC to upgrade the Shoshone Falls Hydroelectric Project's installed capacity. Specifically, IPC no longer wants to build a new powerhouse with a single 50 megawatt (MW) unit. Instead, IPC proposes to remove the project's two existing turbines and install a single 3.2 MW unit in the project's existing powerhouse. The project's total installed capacity would then be 3.2 MW. IPC also proposes to delete Article 402 to remove the supplemental aesthetic flow release requirement and proposes to delete Article 420 which requires a Visitor Use Survey and Monitoring Plan. Both of these requirements were added to the license in response to the 50 MW upgrade. Finally, IPC proposes to accelerate its license expiration date so the license expires on July 31, 2040 instead of its current expiration date of July 31, 2044. This proposal would coordinate the license expiration date of the Shoshone Falls Project with the Twin Falls Project (FERC Project No. 18), which is located one mile upstream on the Snake River and has a license expiration date of December 31, 2040. IPC says coordination would allow the licensee, resource agencies, and the Commission to more effectively relicense the two projects and would allow the Commission to better assess cumulative effects.

l. Locations of Applications: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should do so by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title PROTEST, MOTION TO INTERVENE, or COMMENTS; (2) set forth in the heading the name of the applicant and the project number of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.24(b). All comments, motions to intervene, or protests should relate to project works which are subject of the non-project use application. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: December 14, 2017.
Kimberly D. Bose,
Secretary.

[FR Doc. 2017-27372 Filed 12-19-17; 8:45 am]

BILLING CODE 6717-01-P